DEPARTMENT OF DEFENSE

Department of the Army

Availability of Non-Exclusive, Exclusive License or Partially Exclusive Licensing of U.S. Patents

AGENCY: Department of the Army, DoD.

ACTION: Notice.

SUMMARY: In accordance with 37 CFR part 404.6, announcement is made of the availability for licensing of U.S. Patent No. US 6,362,315 B2 entitled “Process of Control the Molecular Weight and Polydispersity of Substituted Polyphenols and Polyaromatic Amines by Enzymatic Synthesis in Organic Solvents, Microemulsions, and Biphasic Systems” issued March 26, 2002 and U.S. Patent No. US 6,362,314 B2 entitled “Process to Control the Molecular Weight and Polydispersity of Substituted Polyphenols and Polyaromtic Amines by Enzymatic Synthesis in Organic Solvents, Microemulsions, and Biphasic Systems” issued March 26, 2002. These patents are assigned to the United States Government as requested by the Secretary of the Army.

FOR FURTHER INFORMATION CONTACT: Mr. Robert Rosenkrans at U.S. Army Soldier and Biological Chemical Command, Kansas Street, Natick, MA 01760, Phone; (508) 233-4928 or E-mail: Robert.Rosenkrans@natick.army.mil.

SUPPLEMENTARY INFORMATION: Any licenses granted shall comply with 35 U.S.C. 209 and 37 CFR part 404. The following Patent Numbers, Titles and Issue dates are provided:

Patent Number: US 6,362,315 B2.

Title: Process to Control the Molecular Weight and Polydispersity of Substituted Polyphenols and Polyaromtic Amines by Enzymatic Synthesis in Organic Solvents, Microemulsions, and Biphasic Systems.

Issue Date: March 26, 2002.

Patent Number: US 6,362,314 B2.

Title: Process to Control the Molecular Weight and Polydispersity of Substituted Polyphenols and Polyaromtic Amines by Enzymatic Syntheses in Organic Solvents, Microemulsions, and Biphasic Systems.

Issue Date: March 26, 2002.
Luz D. Ortiz,
Army Federal Register Liaison Officer.

[FR Doc. 02-10159 Filed 4-24-02; 8:45 am]

BILLING CODE 3710-08-M